DEPARTMENT OF COMMERCE

International Trade Administration

(A-580-829)

Stainless Steel Wire Rod from the Republic of Korea: Notice of Extension of Time Limit for Preliminary Results of Antidumping Duty Administrative Review

AGENCY: Import Administration, International Trade Administration, Department of Commerce.

EFFECTIVE DATE: May 30, 2006.

FOR FURTHER INFORMATION CONTACT: Karine Gziryan or Malcolm Burke, AD/CVD Operations, Office 4, Import Administration, International Trade Administration, U.S. Department of Commerce, 14th Street and Constitution Avenue, NW, Washington, DC 20230, telephone: (202) 482-4081 and (202) 482-3584, respectively.

SUPPLEMENTARY INFORMATION:

Background

On October 25, 2005, the Department of Commerce (the Department) published a notice of initiation of an administrative review of the antidumping duty order on stainless steel wire rod from the Republic of Korea, covering the period September 1, 2004, through August 31, 2005. See Initiation of Antidumping and Countervailing Duty Administrative Reviews, 70 FR 61601 (October 25, 2005). The preliminary results are currently due no later than June 2, 2006.

Extension of Time Limit for Preliminary Results of Review

Section 751(a)(3)(A) of the Tariff Act of 1930, as amended (the Act), requires the Department to make a preliminary determination within 245 days after the last day of the anniversary month of an order or finding for which a review is requested and a final determination within 120 days after the date on which the preliminary determination is published. However, if it is not practicable to complete a review within these time periods, section 751(a)(3)(A) of the Act allows the Department to extend the 245-day time limit for the preliminary determination to a maximum of 365 days and the time limit for the final determination to 180 days (or 300 days if the Department does not extend the time limit for the preliminary determination) from the date of publication of the preliminary determination.

The Department has determined that it is not practicable to complete the preliminary results of this review within the original time limit because the review involves examining a number of complex issues regarding affiliation and post sales price adjustments. Therefore, the Department is fully extending the time limit for completion of the preliminary results of this review by 120 days. The preliminary results of review will now be due on October 2, 2006, which is the first business day after the 120-day extension (the 120th day falls on a weekend). The deadline for the final results of this administrative review continues to be 120 days after publication of the preliminary results of review.

This notice is issued and published in accordance with sections 751(a)(3)(A) and 777(i) of the Act.

Dated: May 22, 2006.
Stephen J. Claeys,
Deputy Assistant Secretary for Import Administration.

[FR Doc. E6-8263 Filed 5-26-06; 8:45 am]

BILLING CODE 3510-DS-S